DEPARTMENT OF TRANSPORTATION

Federal Motor Carrier Safety Administration

[Docket No. FMCSA-2010-0242]

Public Listening Session

AGENCY: Federal Motor Carrier Safety Administration (FMCSA), DOT.

ACTION: Announcement of public listening session; request for comment.

SUMMARY: FMCSA announces it will hold a public listening session to solicit input on key challenges facing the motor carrier industry, issues facing stakeholders, and concerns that should be considered by the Agency in developing its next 5-year Strategic Plan. FMCSA invites interested persons to participate in this important opportunity to help build FMCSA's next strategic plan. This notice also invites written comments, suggestions, and recommendations from all individuals and organizations on FMCSA's mission, vision, and strategic objectives (goals) for the plan.

DATES: The public meeting will be held September 8, 2010, in three consecutive listening sessions:

Safety Partners, 8 a.m. to 10 a.m.

Industry Partners, 10 a.m. to 12 p.m.

Enforcement Partners, 12 p.m. to 2 p.m.

Submit comments for discussion at the listening session by September 1, 2010.

Additional written comments may be submitted by September 30, 2010.

ADDRESSES: Holiday Inn Washington-Capitol, 550 C Street, SW., Washington, DC 20024.

You may submit comments (identified by DOT Docket ID Number FMCSA-2010-0242) by any of the following methods. Do not submit the same comments by more than one method. However, to allow effective public participation before the comment period deadline, the Agency encourages use of the Web site listed below. This provides for the most efficient and timely receipt and processing of your comments.

• Federal eRulemaking Portal: Go to http://www.regulations.gov. Follow the online instructions for submitting comments.

• Fax: 1-202-493-2251.

• Mail: Docket Management Facility, U.S. Department of Transportation, Room W12-140, 1200 New Jersey Avenue, SE., Washington, DC 20590-0001.

• Hand Delivery: Ground floor, Room W12-140, 1200 New Jersey Avenue SE., Washington, DC, between 9 a.m. and 5 p.m., E.T., Monday through Friday, except Federal holidays.

Instructions: All submissions must include the Agency name and docket number. It is suggested that comment submissions be limited to ten (10) pages with unlimited attachments. Note that all comments received will be posted without change to http://www.regulations.gov, including any personal information provided. Refer to the Privacy Act heading of this notice for further information.

Public Participation: The regulations.gov system is generally available 24 hours a day, 365 days a year. You can find electronic submission and retrieval help and guidelines under the “Help” section of the Web site. For notification that FMCSA received the comments, please include a self-addressed, stamped envelope or postcard, or print the acknowledgement page that appears after submitting comments online. Copies or abstracts of all documents referenced in this notice are in the docket. For access to the docket to read background documents or comments received, go to http://www.regulations.gov at any time or to Room W12-140, 1200 New Jersey Avenue SE., Washington, DC, between 9 a.m. and 5 p.m., E.T., Monday through Friday, except Federal holidays. All comments received before the close of business on the comment closing date indicated above will be considered and available for examination in the docket at the above address. Comments received after the comment closing date will be filed in the docket and will be considered to the extent practicable. In addition to late comments, FMCSA will continue to file relevant information in the docket as it becomes available after the comment period closing date, and interested persons should continue to examine the docket for new material.

Services for Individuals with Disabilities: For assistance with services for individuals with disabilities or to request special assistance, please send your request to the address listed in the FOR FURTHER INFORMATION CONTACT section of this notice, or e-mail your request to tretha.chromey@dot.gov by Wednesday, September 1, 2010.

Privacy Act: Anyone is able to search the electronic form of all comments received in any of our dockets by the name of the individual submitting the comment (or signing the comment, if submitted on behalf of an association, business, labor union, etc.). You may review DOT's complete Privacy Act Statement in the Federal Register published on April 11, 2000 (Volume 65, Number 70, pp. 19477-78) or you may visit http://www.dot.gov/privacy.html.

FOR FURTHER INFORMATION CONTACT: Ms. Tretha Chromey, Office of Policy and Program Development, Strategic Planning and Program Evaluation Division, Federal Motor Carrier Safety Administration, 1200 New Jersey Ave., SE., Washington, DC 20590; telephone (202) 366-1630 or e-mail tretha.chromey@dot.gov or FMCSAStrategicPlan@dot.gov. Office hours are 9 a.m. to 5 p.m., E.T., Monday through Friday, except Federal holidays.

SUPPLEMENTARY INFORMATION: The primary mission of the Federal Motor Carrier Safety Administration (FMCSA) is to reduce crashes, injuries, and fatalities involving large trucks and buses. Established as a separate administration within the U.S. Department of Transportation (DOT) on January 1, 2000, FMCSA is headquartered in Washington, DC. The Agency employs more than 1,000 people in all 50 States and the District of Columbia, who are dedicated to improving the safety of commercial motor vehicles (CMVs) and saving lives.

In carrying out its safety mandate to reduce crashes, injuries, and fatalities involving large trucks and buses, FMCSA engages in a variety of regulatory, enforcement, outreach, educational, and research activities. FMCSA's Administrator has outlined three core principles for the Agency:

• Raise the safety bar to enter the motor carrier industry;

• Maintain high safety standards to remain in the industry; and

• Remove high-risk carriers, drivers, and vehicles from operations.

Following are some of the key issues that the Agency hopes public comments will address. In addition to general comments, we seek any documents, studies, or references relevant to the issues. The public may respond to some or all of the questions below. FMCSA will consider all comments received but may not necessarily incorporate every comment into the strategic plan.

1. How should we strengthen FMCSA's role/mission of improving the safety of commercial motor vehicles (CMV) and saving lives as it relates to some of FMCSA's core program: Commercial motor vehicle compliance and enforcement, commercial driver licensing, household goods protection, safe and secure transportation of hazardous materials?

2. How can FMCSA have a greater impact in the reduction of injury and loss of life on the nation's highways?

3. How can FMCSA improve the way it does business, provides customer service, and interacts with all road user groups? What are some of the challenges you have in interacting with FMCSA that prevent you from conducting your business effectively? What actions should FMCSA take to improve interactions between CMV drivers and drivers of private vehicles? Please identify possible improvements or ideas for doing better.

4. How might FMCSA improve or strengthen its partnership with stakeholders representing State enforcement agencies, safety advocacy groups, the motor carrier industry, and the general public to achieve its safety mission?

5. How should FMCSA balance driver-focused, vehicle-focused, and motor carrier-focused compliance, interventions, and enforcement to achieve its safety mission?

6. How will advanced vehicle technologies (such as crash avoidance, electronic on-board recorders [EOBRs], and global positioning systems [GPS]) impact the future of driver behavior, vehicle safety, and motor carrier safety?

7. How will changes in the following areas impact the industry, your organization, and/or FMCSA's ability to achieve its mission in the future?

• Demographics

• Economics

• New policies in environment, energy, and other areas

8. What technological changes could positively impact highway safety?

9. How will technology affect driver behavior? What issues related to vehicle/driver interaction could affect safety performance?

Issued on: August 24, 2010.
Larry W. Minor,
Associate Administrator for Policy and Program Development.

[FR Doc. 2010-21509 Filed 8-27-10; 8:45 am]

BILLING CODE 4910-EX-P